DEPARTMENT OF ENERGY

Federal Energy Regulatory Commission

Combined Notice of Filings #1

Take notice that the Commission received the following electric corporate filings:

Docket Numbers: EC19-113-000.

Applicants: Golden State Water Company.

Description: Application for Authorization Under Section 203 of the Federal Power Act, et al. of Golden State Water Company.

Filed Date: 7/12/19.

Accession Number: 20190712-5112.

Comments Due: 5 p.m. ET 8/2/19.

Take notice that the Commission received the following electric rate filings:

Docket Numbers: ER19-1887-001.

Applicants: Emera Maine.

Description: Compliance filing: Amendment to Order 845 Compliance Filing to be effective 5/20/2019.

Filed Date: 7/15/19.

Accession Number: 20190715-5044.

Comments Due: 5 p.m. ET 8/5/19.

Docket Numbers: ER19-1955-001.

Applicants: Public Service Company of New Mexico.

Description: Compliance filing: Order No. 845 Deficiency Letter Response to be effective 5/22/2019.

Filed Date: 7/12/19.

Accession Number: 20190712-5155.

Comments Due: 5 p.m. ET 8/2/19.

Docket Numbers: ER19-2373-000.

Applicants: Ashtabula Wind I, LLC.

Description: Amendment to July 10, 2019 Ashtabula Wind I, LLC tariff filing.

Filed Date: 7/11/19.

Accession Number: 20190711-5155.

Comments Due: 5 p.m. ET 8/1/19.

Docket Numbers: ER19-2391-000.

Applicants: Duke Energy Florida, LLC.

Description: § 205(d) Rate Filing: DEF-FMPA NITSA (SA No. 148) Amendment to be effective 7/1/2019.

Filed Date: 7/12/19.

Accession Number: 20190712-5103.

Comments Due: 5 p.m. ET 8/2/19.

Docket Numbers: ER19-2392-000.

Applicants: Chief Conemaugh Power II, LLC.

Description: § 205(d) Rate Filing: Reactive Power Tariff Application to be effective 12/31/9998.

Filed Date: 7/12/19.

Accession Number: 20190712-5105.

Comments Due: 5 p.m. ET 8/2/19.

Docket Numbers: ER19-2393-000.

Applicants: Chief Keystone Power II, LLC.

Description: § 205(d) Rate Filing: Reactive Power Tariff Application to be effective 12/31/9998.

Filed Date: 7/12/19.

Accession Number: 20190712-5108.

Comments Due: 5 p.m. ET 8/2/19.

Docket Numbers: ER19-2394-000.

Applicants: PJM Interconnection, L.L.C.

Description: § 205(d) Rate Filing: Amendment to WMPA, SA No. 3915; Queue No. Y2-042/Z2-104 (amend) to be effective 6/19/2015.

Filed Date: 7/12/19.

Accession Number: 20190712-5109.

Comments Due: 5 p.m. ET 8/2/19.

Docket Numbers: ER19-2395-000.

Applicants: AES Integrated Energy, LLC.

Description: § 205(d) Rate Filing: AES Integrated Tariff Amendment to be effective 9/11/2019.

Filed Date: 7/12/19.

Accession Number: 20190712-5147.

Comments Due: 5 p.m. ET 8/2/19.

Docket Numbers: ER19-2396-000.

Applicants: Louisville Gas and Electric Company.

Description: § 205(d) Rate Filing: Filing of Transition Mechanism Agreement to be effective 9/11/2019.

Filed Date: 7/12/19.

Accession Number: 20190712-5149.

Comments Due: 5 p.m. ET 8/2/19.

Docket Numbers: ER19-2397-000.

Applicants: Kentucky Utilities Company.

Description: § 205(d) Rate Filing: Filing of KU Concurrence Transition Mechanism Agmt to be effective 9/11/2019.

Filed Date: 7/12/19.

Accession Number: 20190712-5152.

Comments Due: 5 p.m. ET 8/2/19.

Docket Numbers: ER19-2398-000.

Applicants: Hancock County Wind, LLC.

Description: Baseline eTariff Filing: Hancock County Wind, LLC Application for Market-Based Rate Authority to be effective 9/11/2019.

Filed Date: 7/12/19.

Accession Number: 20190712-5156.

Comments Due: 5 p.m. ET 8/2/19.

Docket Numbers: ER19-2399-000.

Applicants: Caden Energix Hickory LLC.

Description: Baseline eTariff Filing: Market-Based Rate Application to be effective 9/14/2019.

Filed Date: 7/15/19.

Accession Number: 20190715-5000.

Comments Due: 5 p.m. ET 8/5/19.

Docket Numbers: ER19-2400-000.

Applicants: Electric Energy, Inc.

Description: Compliance filing: compliance 3 2019 Attachment M to be effective 5/22/2019.

Filed Date: 7/15/19.

Accession Number: 20190715-5043.

Comments Due: 5 p.m. ET 8/5/19.

Take notice that the Commission received the following public utility holding company filings:

Docket Numbers: PH19-14-000.

Applicants: PGGM Vermogensbeheer B.V.

Description: PGGM Vermogensbeheer B.V. submits FERC 65-B Material Change in Facts of Waiver Notification, et al.

Filed Date: 7/11/19.

Accession Number: 20190711-5165.

Comments Due: 5 p.m. ET 8/1/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 15, 2019.
Nathaniel J. Davis, Sr.,
Deputy Secretary.

[FR Doc. 2019-15375 Filed 7-18-19; 8:45 am]

BILLING CODE 6717-01-P